DEPARTMENT OF DEFENSE

Department of the Army

Availability of U.S. Patents for Non-Exclusive, Exclusive, or Partially-Exclusive Licensing

AGENCY: U.S. Army Research Laboratory, DoD.

ACTION: Notice.

SUMMARY: In accordance with 37 CFR 404.6 announcement is made of the availability of the following U.S. patent for non-exclusive, partially exclusive or exclusive licensing. The listed patent has been assigned to the United States of America as represented by the Secretary of the Army, Washington. DC.

This patent covers a wide variety of technical arts including. A microbolometer constructed of biological and non-biological components using proteins with greater sensitivity to imaging, as the infrared radiation detectors.

Under the authority of section 11(a)(2) of the Federal Technology Transfer Act of 1986 (Pub. L. 99-502) and Section 207 of Title 35, United States Code, the Department of the Army as represented by the U.S. Army Research Laboratory wish to license the U.S. patent listed below in a non-exclusive, exclusive or partially exclusive manner to any party interested in manufacturing, using, and/or selling devices or processes covered by this patent.

Title: Hybridized Biological Microbolometer.

Inventors: Krishna Deb.

Patent Number: 6,160,257.

Issued Date: December 12, 2000.

FOR FURTHER INFORMATION CONTACT: Norma Cammaratta, Technology Transfer Office, AMSRL-CS-TT, U.S. Army Research Laboratory, Adelphi, MD 20783-1187 tel: (301) 394-2952; fax: (301) 394-5818.

SUPPLEMENTARY INFORMATION: None.

Gregory D. Showalter,
Army Federal Register, Liaison Officer.

[FR Doc. 01-2012 Filed 1-22-01; 8:45 am]

BILLING CODE 3710-08-M